DEPARTMENT OF TRANSPORTATION

Federal Aviation Administration

Notice of Intent To Rule on Application To Impose and Use the Revenue From a Passenger Facility Charge (PFC) at Quad City International Airport, Moline, Illinois

AGENCY: Federal Aviation Administration (FAA), DOT.

ACTION: Notice of Intent to Rule on Application.

SUMMARY: The FAA proposes to rule and invites public comment on the application to impose and use the revenue from a PFC at Quad City International Airport under the provisions of the Aviation Safety and Capacity Expansion Act of 1990 (Title IX of the Omnibus Budget Reconciliation Act of 1990) (Pub. L. 101-508) and part 158 of the Federal Aviation Regulations (14 CFR part 158).

DATES: Comments must be received on or before October 22, 2001.

ADDRESSES: Comments on this application may be mailed or delivered in triplicate to the FAA at the following address: FAA, Great Lakes Region, Chicago Airports District Office, 2300 East Devon Avenue, Room 320, Des Plaines, Illinois 60018.

In addition, one copy of any comments submitted to the FAA must be mailed or delivered to Mr. Bruce E. Carter, Director of Aviation of the Metropolitan Airport Authority of Rock Island County at the following address: Metropolitan Airport Authority of Rock Island County, Quad City International Airport, P.O. Box 9009, Moline, Illinois 61265.

Air carriers and foreign air carriers may submit copies of written comments previously provided to the Metropolitan Airport Authority of Rock Island County under section 158.23 of part 158.

FOR FURTHER INFORMATION CONTACT: Richard A. Pur, Airports Engineer, FAA, Great Lakes Region, Chicago Airports District Office, 2300 East Devon Avenue, Room 320, Des Plaines, Illinois 60018, 847-294-7527. The application may be reviewed in person at this same location.

SUPPLEMENTARY INFORMATION: The FAA proposes to rule and invites public comment on the application to impose and use the revenue from a PFC at Quad City International Airport under the provisions of the Aviation Safety and Capacity Expansion Act of 1990 (Title IX of the Omnibus Budget Reconciliation Act of 1990) (Pub. L. 101-508) and part 158 of the Federal Aviation Regulations (14 CFR part 158).

On August 29, 2001, the FAA determined that the application to impose and use the revenue from a PFC submitted by Metropolitan Airport Authority of Rock Island County was substantially complete within the requirements of section 158.25 of Part 158. The FAA will approve or disapprove the application, in whole or in part, no later than November 26, 2001.

The following is a brief overview of the application.

PFC application number: 01-04-C-00-MLI.

Level of the proposed PFC: $4.50.

Proposed charge effective date: July 1, 2016.

Proposed charge expiration date: July 1, 2017.

Total estimated PFC revenue: $1,520,320.00.

Brief description of proposed projects: Purchase of Aircraft Rescue and Fire Fighting Equipment, Purchase of two Regional Jet Boarding Bridges.

Class or classes of air carriers which the public agency has requested not be required to collect PFCs: Part 135 air taxi/commercial operators.

Any person may inspect the application in person at the FAA office listed above under FOR FURTHER INFORMATION CONTACT.

In addition, any person may, upon request, inspect the application, notice and other documents germane to the application in person at the Metropolitan Airport Authority of Rock Island County.

Issued in Des Plaines, Illinois on September 5, 2001.
Gary E. Nielsen,
Acting Manager, Planning and Programming Branch, Airports Division, Great Lakes Region.

[FR Doc. 01-23694 Filed 9-20-01; 8:45 am]

BILLING CODE 4910-13-M